DEPARTMENT OF LABOR

Employment and Training Administration

Notice of Determinations Regarding Eligibility To Apply for Worker Adjustment Assistance and NAFTA Transitional Adjustment Assistance

In accordance with section 223 of the Trade Act of 1974, as amended, the Department of Labor herein presents summaries of determinations regarding eligibility to apply for trade adjustment assistance for workers (TA-W) issued during the period of March, 2002.

In order for an affirmative determination to be made and a certification of eligibility to apply for worker adjustment assistance to be issued, each of the group eligibility requirements of section 222 of the Act must be met.

(1) That a significant number or proportion of the workers, in the workers' firm, or an appropriate sub-division thereof, have become totally or partially separated,

(2) that sales or production, or both, of the firm or sub-division have decreased absolutely, and

(3) that increases of imports of articles like or directly competitive with articles produced by the firm or appropriate subdivision have contributed importantly to the separations, or threat thereof, and to the absolute decline in sales or production.

Negative Determinations for Worker Adjustment Assistance

In each of the following cases the investigation revealed that criterion (3) has not been met. A survey of customers indicated that increased imports did not contribute importantly to worker separations at the firm.

TA-W-39,789; Guildford of Maine, Guilford, ME

TA-W-40,001 & A; Crowe Rope Industries, Searsmont, ME and Winslow, ME

TA-W-40,218 & A; DMI Furniture, Inc., Louisville, KY and Huntingburg, IN

TA-W-41,051; West Point Foundry and Machine Co., West Point, GA

TA-W-40,200; International Paper, Wood Products Div., Washington, GA

TA-W-40,414; Catawissa Lumber and Specialty Co., Inc., West Jefferson, NC

TA-W-40,912; Kennametal Industrial Product Group, A Subsidiary of Kennametal, Inc., Pine Bluff, AR

In the following cases, the investigation revealed that the criteria for eligibility have not been met for the reasons specified.

Increased imports did not contribute importantly to worker separations at the firm.

TA-W-41,021; Kryptonite Corp., A Subsidiary of Ingersoll-Rand Co, Canton, MA

The workers firm does not produce an article as required for certification under section 222 of the Trade Act of 1974.

TA-W-41,021; Steel Valley Crane Service, Inc., Canfield, OH

Affirmative Determinations for Worker Adjustment Assistance

The following certifications have been issued; the date following the company name and location of each determination references the impact date for all workers of such determination.

TA-W-40,020; Continental Fabrics, Inc., Angier, NC: August 29, 2000.

TA-W-39,807; Water Wonders, Inc., Santa Maria, CA: April 25, 2000.

TA-W-39,684; Lee Fashion Fabrics, Inc., Gloversville, NY: July 7, 2000.

TA-W-38,914; Bloomsburg Mills, Inc., Bloomsburg Plant, Bloomsburg, PA: March 15, 2000.

TA-W-40,101; Lee Dyeing Company of North Carolina, Gloversville, NY: August 24, 2000.

TA-W-40,504; LTV Steel Crop., Including Chicago Coke Plant, East Chicago, IN: December 19, 2000.

TA-W-40,538; JMC, LLC, d/b/a Nexpak, Rockaway, NJ: December 19, 2000.

TA-W-40,634; LTV Steel Corp., Hennepin, IL: December 18, 2000.

TA-W-40,635; LTV Steel Corp., Warren Coke Plant, Warren, OH: December 28, 2000.

TA-W-40,686; Autodie International, Inc., Grand Rapids, MI: December 28, 2000.

TA-W-40,724; LTV Steel Corp., Technology Center, Independence, OH: January 4, 2001.

TA-W-40,744; Wabash Aluminum Alloys LLC, Bellwood Plant, Richmond, VA: December 13, 2000.

TA-W-40,766; Harper-Wyman Co, Princeton, IL: December 5, 2000.

TA-W-40,776; Perkinelmer Life Sciences, Inc., Beltsville, MD: January 7, 2001.

TA-W-40,786 & A, B; LTV Steel Corp., Cuyahoga Valley Railway Co., LTV Railroad Companies, Cleveland, OH, River Terminal Railway Co., LTV Railroad Companies, Cleveland, OH and Chicago Short Line Railway Company, LTV Railroad Companies, Cleveland, OH: January 14, 2001.

TA-W-40,817 & A; Northshore Mining Co., Silver Bay, MN and Babbitt, MN: December 19, 2000.

TA-W-40,818; Agfa Corp., Brevard, NC: March 23, 2002.

TA-W-40,828; Citizens Gas and Coke Utility, Indianapolis Coke, Indianapolis, IN: January 21, 2001.

TA-W-40,921; Gulf Fibers, Inc., Axis, AL: January 16, 2001.

TA-W-40,982; Volk Packaging Corp., Biddeford, ME: January 31, 2001.

TA-W-41,017; Mason Shoe Manufacturing Co., Chippewa Falls, WI: February 17, 2001.

TA-W-41,030; LTV Steel Corp., Lorain Pellet Terminal, Lorain, OH: February 8, 2001.

Also, pursuant to Title V of the North American Free Trade Agreement Implementation Act (Pub. L. 103-182) concerning transitional adjustment assistance hereinafter called (NAFTA-TAA) and in accordance with section 250(a), Subchapter D, Chapter 2, Title II, of the Trade Act as amended, the Department of Labor presents summaries of determinations regarding eligibility to apply for NAFTA-TAA issued during the month of March, 2002.

In order for an affirmative determination to be made and a certification of eligibility to apply for NAFTA-TAA the following group eligibility requirements of section 250 of the Trade Act must be met:

(1) That a significant number or proportion of the workers in the workers' firm, or an appropriate subdivision thereof, (including workers in any agricultural firm or appropriate subdivision thereof) have become totally or partially separated from employment and either—

(2) that sales or production, or both, of such firm or subdivision have decreased absolutely,

(3) that imports from Mexico or Canada of articles like or directly competitive with articles produced by such firm or subdivision have increased, and that the increases imports contributed importantly to such workers' separations or threat of separation and to the decline in sales or production of such firm or subdivision; or

(4) that there has been a shift in production by such workers' firm or subdivision to Mexico or Canada of articles like or directly competitive with articles which are produced by the firm or subdivision.

Negative Determinations NAFTA-TAA

In each of the following cases the investigation revealed that criteria (3) and (4) were not met. Imports from Canada or Mexico did not contribute importantly to workers' separations. There was no shift in production from the subject firm to Canada or Mexico during the relevant period.

NAFTA-TAA-05372; International Paper, Wood Products Division, Washington, GA.

Affirmative Determinations NAFTA-TAA

NAFTA-TAA-05909; Volk Packaging, Biddeford, ME: January 31, 2001.

NAFTA-TAA-05753; Salem Oil & Grease Co., Salem, MA: January 14, 2001.

NAFTA-TAA-05648; Harper-Wyman Co., Princeton, IL: December 5, 2000.

NAFTA-TAA-5364; Continental Fabrics, Inc., Angier, NC: August 29, 2000.

NAFTA-TAA-04663; Bloomsburg Mills, Inc., Bloomsburg Plant, Bloomsburg, PA: March 15, 2000.

NAFTA-TAA-05871; Osram Sylvania, General Lighting, Winchester, KY: February 11, 2001.

NAFTA-TAA-05907 & A; Lee Fashion Fabrics, Inc., Gloversville, NY and Lee Dyeing Co. of North Carolina, Gloversville, NY: July 7, 2000.

I hereby certify that the aforementioned determinations were issued during the month of March, 2002. Copies of these determinations are available for inspection in Room C-5311, U.S. Department of Labor, 200 Constitution Avenue, NW., Washington, DC 20210 during normal business hours or will be mailed to persons who write to the above address.

Dated: March 25, 2002.
Edward A. Tomchick,
Director, Division of Trade Adjustment Assistance.

[FR Doc. 02-7595 Filed 3-28-02; 8:45 am]

BILLING CODE 4510-30-M